DEPARTMENT OF HOMELAND SECURITY

Coast Guard

33 CFR Part 100

[Docket No. USCG-2013-0387]

Special Local Regulations; Recurring Marine Events in the Seventh Coast Guard District

AGENCY: Coast Guard, DHS.

ACTION: Notice of enforcement of regulation.

SUMMARY: The Coast Guard will enforce the special local regulation for the St. John 4th of July Carnival Fireworks Display from 8 p.m. until 10 p.m. on July 4, 2013. This action is necessary to ensure safety of life on navigable waters of the United States. During the enforcement period, a regulated area will exclude the presence of all vessels not associated with the show. All vessels not associated with the show will be prohibited from entering, transiting through, anchoring in, or remaining within the area unless authorized by the Captain of the Port San Juan or a designated representative.

DATES: The regulation in 33 CFR 100.701 Table 1 as well as the general regulations in that section will be enforced from 8 p.m. through 10 p.m. on July 4, 2013.

FOR FURTHER INFORMATION CONTACT: If you have questions on this notice, call or email Mr. Efrain Lopez, Sector San Juan Prevention Department, Coast Guard; telephone (787) 289-2097, email Efrain.Lopez1@uscg.mil.

SUPPLEMENTARY INFORMATION: The Coast Guard will enforce the special local regulation for the annual St. John 4th of July Carnival Fireworks Display in 33 CFR 100.701, Table 1, and the general regulations in that section on July 4, 2013, from 8 p.m. until 10 p.m. This rule creates a regulated area that will encompass all waters within a 200 yard radius centered on the following position: 18°19′55″ N/064°48′06″ W.

Under the general provisions of 33 CFR 100.701, vessels not associated with the show may not enter, transit through, anchor in, or remain in the regulated area, unless they receive permission from the COTP. Vessels may safely transit outside the regulated area, but may not anchor, block, loiter in, or impede the official patrol vessels. The Coast Guard may be assisted by other Federal, State, or local law enforcement agencies in enforcing this regulation.

This notice is issued under authority of 33 CFR 100.701 and 5 U.S.C. 552 (a). The Coast Guard will provide notice of the regulated areas by Local Notice to Mariners, Broadcast Notice to Mariners, and on-scene designated representatives.

Dated: June 14, 2013.
D. W. Pearson,
Captain, U.S. Coast Guard, Captain of the Port San Juan.

[FR Doc. 2013-15498 Filed 6-27-13; 8:45 am]

BILLING CODE 9110-04-P